DEPARTMENT OF ENERGY

Federal Energy Regulatory Commission

Combined Notice of Filings #2

Take notice that the Commission received the following electric rate filings:

Docket Numbers: ER15-536-002.

Applicants: PJM Interconnection, L.L.C., Baltimore Gas and Electric Company.

Description: Compliance filing per 35: BGE submits Errata to Compliance Filing in Docket No. ER15-536-001 to be effective 2/2/2015.

Filed Date: 4/17/15.

Accession Number: 20150417-5271.

Comments Due: 5 p.m. ET 5/8/15.

Docket Numbers: ER15-1066-001.

Applicants: Red Horse Wind 2, LLC.

Description: Supplement to February 18, 2015 and March 27, 2015 Red Horse Wind 2, LLC tariff filings.

Filed Date: 4/17/15.

Accession Number: 20150417-5270.

Comments Due: 5 p.m. ET 4/24/15.

Docket Numbers: ER15-1527-000.

Applicants: Duke Energy Carolinas, LLC.

Description: § 205(d) rate filing per 35.13(a)(2)(iii): Joint OATT Amendment to Schedule 4 to be effective 6/17/2015.

Filed Date: 4/17/15.

Accession Number: 20150417-5228.

Comments Due: 5 p.m. ET 5/8/15.

Docket Numbers: ER15-1528-000.

Applicants: Southwest Power Pool, Inc.

Description: § 205(d) rate filing per 35.13(a)(2)(iii): Attach P Revisions—Implementation of the OATI Preemption & Competition Module to be effective 6/16/2015.

Filed Date: 4/17/15.

Accession Number: 20150417-5243.

Comments Due: 5 p.m. ET 5/8/15.

Docket Numbers: ER15-1529-000.

Applicants: Midcontinent Independent System Operator, Inc.

Description: Compliance filing per 35: 2015-04-17_Unreserved Use Revenue Distribution Methodology to be effective 5/1/2015.

Filed Date: 4/17/15.

Accession Number: 20150417-5274.

Comments Due: 5 p.m. ET 5/8/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2015.
Nathaniel J. Davis, Sr.,
Deputy Secretary.

[FR Doc. 2015-09472 Filed 4-22-15; 8:45 am]

BILLING CODE 6717-01-P